DEPARTMENT OF THE INTERIOR

Bureau of Land Management

[OR-014-01-1430-EU; GP-04-0066]

Realty Action: Modified Competitive Sale of Public Lands in Klamath County, OR

AGENCY: Bureau of Land Management (BLM), Interior.

ACTION: Notice of realty action.

SUMMARY: The following described public land in Klamath County, Oregon has been examined and found suitable for sale under Sections 203 and 209 of the Federal Land Policy and Management Act of 1976 (90 Stat. 2750, 43 U.S.C. 1713 and 1719, at not less than the appraised market value. The parcel proposed for sale is identified as suitable for disposal in the Klamath Falls Resource Area Resource Management Plan, June 2, 1995.

The parcel proposed for sale is identified as follows:

Willamette Meridian,

T. 41 S., R. 13 E.

Sec. 14, NE1/4NW1/4.

The area described contains 40 acres.

DATES: On or before July 9, 2004, interested persons may submit written comments. Objections will be reviewed by the Lakeview District Manager who may sustain, vacate, or modify this realty action. In the absence of any objections, this proposal will become the final determination of the Department of the Interior.

ADDRESSES: Written comments should be submitted to Jon Raby, Klamath Falls Resource Area Field Manager, Klamath Falls Field Office, 2795 Anderson Ave. Building 25, Klamath Falls, Oregon 97603. Electronic format submittal is not acceptable.

FOR FURTHER INFORMATION CONTACT: Detailed information concerning this land sale, including the reservations, sale procedures and conditions, appraisal, planning and environmental documents, is available from Linda Younger, Realty Specialist, at the above address, phone (541) 883-6916.

SUPPLEMENTARY INFORMATION: The area described contains 40 acres, more or less, in Klamath County, Oregon. The appraised market value for this parcel has been determined to be $3,600.00.

The land is being considered for a modified competitive sale. There is no legal access for BLM or members of the public. This land is difficult and uneconomic to manage as a part of the public lands and is not suitable for management by another Federal agency. No significant resource values will be affected by this disposal.

In accordance with 43 CFR 2711.3-2, Public lands may be offered for sale utilizing modified competitive bidding procedures when the authorized officer determines it is necessary in order to assure equitable distribution of land among purchasers or to recognize equitable considerations or public policies. Modified competitive bidding includes but is not limited to: Offering to designated bidder (Mr. Al Bruner of A.L. Bruner enterprises) the right to meet the highest bid. Mr. Bruner is the adjacent land owner and his land completely surrounds the 40-acre parcel on all four sides. Refusal or failure to meet the highest bid shall constitute a waiver of such bidding provisions.

The winning bidder will be allowed 30 days from receipt of a written offer to submit a deposit of at least 20 percent of the appraised market value of the parcel, and 180 days thereafter to submit the balance.

The following rights, reservations, and conditions will be included in the patent conveying the land:

1. A reservation to the United States for a right-of-way for ditches and canals constructed by the authority of the United States. Act of August 30, 1890 (43 U.S.C. 945).

2. A reservation to the United States for all oil, gas and geothermal resources in the land in accordance with Section 209 of the Federal Land Policy and Management Act of 1976 (43 U.S.C. 1719).

3. Patents will be issued subject to all valid existing rights and reservations of record.

4. The patent would also include a notice and indemnification statement under the Comprehensive Environmental Response, Compensation and Liability Act (42 U.S.C. 9620) holding the United States harmless from any release of hazardous materials that may have occurred as a result of the unauthorized use of the property by other parties.

The mineral interests being offered for conveyance have no known value. The successful bidder of modified competitive sale offer constitutes an application for conveyance of the mineral interest, with the exception of all leaseables, including oil, gas and geothermal interests, which will be reserved to the United States in accordance with Section 209 of the Federal Land Policy and Management Act of 1976 (43 U.S.C. 1719). In addition to the full purchase price, a nonrefundable fee of $50 will be required for purchase of the mineral interests to be conveyed simultaneously with the sale of the land.

The land described is segregated from appropriation under the public land laws, including the mining laws, with the exception of sales under the above cited statues, pending disposition of this action or 270 days from the date of publication of this notice, whichever occurs first.

Comments, including names, street addresses, and other contact information of respondents, will be available for public review. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. Anonymous comments will not be accepted. BLM will make available for public inspection in their entirety all submissions from organizations or businesses, and from individuals identifying themselves as representatives or officials of organizations or businesses.

Dated: February 4, 2004.
Jon Raby,
Field Manager, Klamath Falls Resource Area.

[FR Doc. 04-11733 Filed 5-24-04; 8:45 am]

BILLING CODE 4310-33-P